Title 3—

The President

Proclamation 7759 of March 3, 2004

American Red Cross Month, 2004

By the President of the United States of America

A Proclamation

The American Red Cross was founded in 1881 by Clara Barton and chartered by the Congress in 1905 to provide humanitarian services to the United States in times of need. Today, the Red Cross remains dedicated to relieving suffering by helping our citizens prepare for and respond to emergencies and natural disasters.

The Red Cross exemplifies one of the great strengths of America—the compassion of our people. Each year, the Red Cross responds to tens of thousands of disasters in the United States, from home fires and earthquakes to tornadoes and chemical spills. In Afghanistan and Iraq, the Red Cross is serving military families by delivering emergency messages between deployed members of our Armed Forces and their families. Through International Response Teams, the Red Cross provides vital aid overseas to the victims of disease, famine, war, and natural disasters. The Red Cross also educates individuals, families, schools, businesses, and communities about the importance of disaster preparedness, especially after the terrorist attacks of September 11, 2001. By offering health and safety training such as first aid, CPR, and aquatic lifesaving, and by facilitating the collection of millions of units of blood for donation, the Red Cross helps our country to handle emergencies.

Many of the essential services of the American Red Cross are provided by volunteers who give their time and energy to help fellow citizens in need. During Red Cross relief operations, these volunteers assess damages, drive emergency response vehicles to distribute food and other supplies to people, and shelter families who have been evacuated from their homes. As we celebrate American Red Cross Month, I encourage all Americans to commit themselves to helping others by volunteering in their communities.

NOW, THEREFORE, I, GEORGE W. BUSH, President of the United States of America and Honorary Chairman of the American Red Cross, by virtue of the authority vested in me by the Constitution and laws of the United States, do hereby proclaim March 2004 as American Red Cross Month. I urge all Americans to support this organization's humanitarian mission. On behalf of a grateful Nation, we also applaud the selfless dedication of Red Cross employees and volunteers.

IN WITNESS WHEREOF, I have hereunto set my hand this third day of March, in the year of our Lord two thousand four, and of the Independence of the United States of America the two hundred and twenty-eighth.

B

[FR Doc. 04-5225

Filed 3-4-04; 10:34 am]

Billing code 3195-01-P